ENVIRONMENTAL PROTECTION AGENCY

[FRL-10602-01-R6]

Notice of Proposed Administrative Settlement Agreement and Order on Consent Cashout Settlement for Ability To Pay Peripheral Parties

AGENCY: Environmental Protection Agency (EPA).

ACTION: Notice of proposed settlement; request for public comment.

SUMMARY: In accordance with the Comprehensive Environmental Response, Compensation, and Liability Act (“CERCLA”), notice is hereby given that a proposed CERCLA Section 122(h)(1) Cashout Settlement Agreement for Ability to Pay Peripheral Parties (“Proposed Agreement”) associated with the Vermiculite Products Inc., Superfund Site in Houston, Harris County, Texas (“Site”) was executed by the Environmental Protection Agency (“EPA”) and is now subject to public comment, after which EPA may modify or withdraw its consent if comments received disclose facts or considerations that indicate that the Proposed Agreement is inappropriate, improper, or inadequate. The Proposed Agreement would resolve potential EPA claims under section 107(a) of CERCLA, against Greer Capital Corporation, James H. Greer, James H. Greer Interest Inc., Maxroy Property Company, Toledo Maxroy LL., and Vermiculite Products Inc., (“Settling Parties”) for EPA response costs at the Vermiculite Products Inc., Superfund Site located in Houston, Texas. The settlement is estimated to be $8,703,300 and was based on an Ability to Pay Analysis, which concluded the settling party shall make payment for EPA response costs.

For thirty (30) days following the date of publication of this notice, EPA will receive electronic comments relating to the Proposed Agreement. EPA's response to any comments received will be available for public inspection by request. Please see the ADDRESSES section of this notice for special instructions in effect due to impacts related to the COVID-19 pandemic.

DATES: Comments must be received on or before April 12, 2023.

ADDRESSES: As a result of impacts related to the COVID-19 pandemic, requests for documents and submission of comments must be via electronic mail except as provided below. The Proposed Agreement and additional background information relating to the Proposed Agreement are available for public inspection upon request by contacting EPA Assistant Regional Counsel Daniel Jaynes at Jaynes.daniel@epa.gov. Comments must be submitted via electronic mail to this same email address and should reference the “Vermiculite Products Inc.” Superfund Site, Proposed Settlement Agreement” and “EPA CERCLA Docket No. 06-02-21”. Persons without access to electronic mail may call Mr. Jaynes at (214) 665-2162 to make alternative arrangements.

FOR FURTHER INFORMATION CONTACT: Daniel Jaynes at EPA by phone (214) 665-2162 or email at: Jaynes.daniel@epa.gov.

Earthea Nance,
Regional Administrator, Region 6.

[FR Doc. 2023-05086 Filed 3-10-23; 8:45 am]

BILLING CODE 6560-50-P